DEPARTMENT OF TRANSPORTATION

Surface Transportation Board

[STB Docket No. AB-842X]

Almono LP—Abandonment Exemption—in Allegheny County, PA

On September 25, 2003, Almono LP (Almono) filed with the Board a petition under 49 U.S.C. 10502 for exemption from the provisions of 49 U.S.C. 10903 to abandon its entire line of railroad extending between the plant of shipper MetalTech on the north side of the Monongahela River and an interchange point with CSX Transportation, Inc. (CSXT) north of CSXT's Glenwood Yard in Hazelwood, Allegheny County, PA, a distance of approximately 2 miles.¹ Almono states that the line does not have milepost designations. The line traverses U.S. Postal Service Zip Codes 15207 and 15213 and includes no stations.

¹ Almono acquired the line from Monongahela Connecting Railroad Company (Mon Con) in Almono LP—Acquisition and Operation Exemption—Line of Monongahela Connecting Railroad Company, STB Finance Docket No. 34250 (STB served Oct. 2, 2002). In that proceeding, Almono stated that Mon Con is a wholly owned subsidiary of LTV Steel Corporation (LTV), which is in bankruptcy and is liquidating its assets, and that it acquired Mon Con's assets as well as adjoining LTV property with court approval. Also, Almono informed the Board that it intended to seek abandonment of the acquired line shortly after consummation of the transaction. In the decision in that proceeding, Almono was told that it must submit evidence showing that the interest of the involved shipper, MetalTech, will be protected.

In addition to an exemption from 49 U.S.C. 10903, petitioner seeks exemption from 49 U.S.C. 10904 [offer of financial assistance (OFA) procedures] and 49 U.S.C. 10905 [public use conditions].² In support, Almono contends that the exemption from these provisions is necessary to allow the two shippers on the line to operate it as a private spur following abandonment without incurring the regulatory overhead costs associated with common carrier operations. Also, Almono will be able to proceed with plans to redevelop the adjoining property and the right-of-way. These requests will be addressed in the final decision.

² Almono also seeks a waiver or exemption from various prefiling requirements, particularly detailed revenue and cost data [49 CFR 1152.22(d)] and detailed information on possible diversions to motor carriage [49 CFR 1105.7(e)(4)]. However, detailed revenue and cost data are not specifically required when petitioning for an abandonment exemption; such information is required to be filed only in abandonment applications. Almono has included the information pertaining to possible diversion to motor carriage in its environmental report. Accordingly, Almono does not appear to require the waiver sought.

The line does not contain federally granted rights-of-way. Any documentation in Almono's possession will be made available promptly to those requesting it.

In this proceeding, Almono is proposing to abandon a line that constitutes its entire rail system. Almono seeks to extinguish its common carrier obligation and, following abandonment of the line, to operate it as a private carrier. When issuing abandonment authority for a railroad line that constitutes the carrier's entire system, the Board does not impose labor protection, except in specifically enumerated circumstances. See Northampton and Bath R. Co.—Abandonment, 354 I.C.C. 784, 785-86 (1978) (Northampton). Therefore, if the Board grants the petition for exemption, in the absence of a showing that one or more of the exceptions articulated in Northampton are present, no labor protective conditions will be imposed.

By issuance of this notice, the Board is instituting an exemption proceeding pursuant to 49 U.S.C. 10502(b). A final decision will be issued by January 13, 2004.

Any OFA under 49 CFR 1152.27(b)(2) will be due no later than 10 days after service of a decision granting the petition for exemption, unless the Board grants the requested exemption from the OFA process. Each OFA must be accompanied by a $1,100 filing fee. See 49 CFR 1002.2(f)(25).

All interested persons should be aware that, following abandonment of rail service and salvage of the line, the line may be suitable for other public use, including interim trail use. Unless the Board grants the requested exemption from the public use provisions, any request for a public use condition under 49 CFR 1152.28 or for trail use/rail banking under 49 CFR 1152.29 will be due no later than November 4, 2003. Each trail use request must be accompanied by a $150 filing fee. See 49 CFR 1002.2(f)(27).

All filings in response to this notice must refer to STB Docket No. AB-842X and must be sent to: (1) Surface Transportation Board, 1925 K Street, NW, Washington, DC 20423-0001; and (2) Robert D. Rosenberg, 1224 Seventeenth Street, NW, Washington, DC 20036. Replies to the Almono petition are due on or before November 4, 2003.

Persons seeking further information concerning abandonment procedures may contact the Board's Office of Public Services at (202) 565-1592 or refer to the full abandonment or discontinuance regulations at 49 CFR part 1152. Questions concerning environmental issues may be directed to the Board's Section of Environmental Analysis (SEA) at (202) 565-1539. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at http://www.stb.dot.gov.

Decided: October 8, 2003.
By the Board, David M. Konschnik, Director, Office of Proceedings.
Vernon A. Williams,
Secretary.

[FR Doc. 03-26037 Filed 10-14-03; 8:45 am]

BILLING CODE 4915-00-P